DEPARTMENT OF ENERGY

Federal Energy Regulatory Commission

[Docket No. OR07-12-000]

Giant Pipeline Company and Giant Industries Arizona, Inc.; Notice of Request for Temporary Waiver of Tariff Filing and Reporting Requirements

July 19, 2007.

Take notice that on July 2, 2007, Giant Pipeline Company (GPL) and Giant Industries Arizona, Inc. (GIA) pursuant to Rule 207(a)(2) of the Commission's Rules of Practice and Procedure, 18 CFR 385.204 (2007), tendered for filing an application for temporary waiver of the Interstate Commerce Act (ICA) Section 6 and Section 20 tariff filing and reporting requirements applicable to interstate common carrier pipelines.

GPL and GIA state that as a result of leasing arrangements with TEPPCO Crude Pipeline, L.P., their pipeline facilities will be used exclusively for the transportation of crude oil to refineries owned by direct or indirect wholly-owned subsidiaries of Western Refining, Inc., the parent company of GPL and GIA.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time July 31, 2007.

Kimberly D. Bose,
Secretary.

[FR Doc. E7-14730 Filed 7-30-07; 8:45 am]

BILLING CODE 6717-01-P